DEPARTMENT OF THE INTERIOR

National Park Service

National Register of Historic Places; Notification of Pending Nominations

Nominations for the following properties being considered for listing in the National Register were received by the National Park Service before April 15, 2000. Pursuant to § 60.13 of 36 CFR part 60 written comments concerning the significance of these properties under the National Register criteria for evaluation may be forwarded to the National Register, National Park Service, 1849 C St. NW, NC400, Washington, DC 20240. Written comments should be submitted by May 9, 2000.

Carol D. Shull,
Keeper of the National Register.

ARIZONA

Gila County

Soderman Building, 55 Chisholm, Miami, 00000465

Maricopa County

Tempe Woman's Club, 1290 S. Mill Ave., Tempe, 00000461

Yavapai County

Pecan Lane Rural Historic Landscape, 537 to 867 Montezuma Castle Hwy, Camp Verde, 00000463

ARKANSAS

Pulaski County

Pfeifer Brothers Department Store, 522-524 S. Main St., Little Rock, 00000464

FLORIDA

Duval County

Ribault Inn Club, Ft. George Rd., Jacksonville, 00000470

Volusia County

Thursby, Louis P., House, Located inside Blue Spring State Park, Orange City, 00000468

GEORGIA

Newton County

Burge Farm, Roughly bounded by GA 142, Cook Rd., Morehouse Rd. and Sewell Rd., Newborn, 00000467

ILLINOIS

Boone County

United States Post Office—Belvidere, 200 S. State St., Belvidere, 00000473

Cass County

Beardstown Grand Opera House, 121 State St., Beardstown, 00000471

Cook County

Holy Name Cathedral, 735 N. State St., Chicago, 00000477

Du Page County

Childs, Robert A. and Mary, House, 318 S. Garfield Ave., Hinsdale, 00000476

St. Clair County

Draser, George, Jr., House, 48 and 52 W. Main St., Mascoutah, 00000474

Stephenson County

Union House, 207 W. High St., Orangeville, 00000472

IOWA

Johnson County

Harvat, Emma J., and Mary E. Stach House (Iowa City MPS), 332 E. Davenport St., Iowa City, 00000478

MASSACHUSETTS

Berkshire County

Fairview Cemetery, Curtis Ave., Dalton, 00000483

Essex County

Greenlawn Cemetery, 195 Nahant Rd., Nahant, 00000481

MISSOURI

Jackson County

Georgen, John and Adele, House, 933 S. Main St., Independence, 00000486

NEW YORK

Westchester County

Knickerbocker Press Building, 50-52 Webster Ave., New Rochelle, 00000487

NORTH CAROLINA

Chatham County

East Raleigh Street Historic District, 300-400 blks. of E. Second St., and 300-600 blks of E. Raleigh St., Siler City, 00000488

Lenoir County

LaGrange Historic District, Roughly bounded by N. Caswell, E. James, N. Carey, E. Washington, S. Caswell, W. Washington, and Forbes Sts., LaGrange, 00000458

Sampson County

Johnson Building, 102-104 E. Main St., Clinton, 00000459

Wake County

Mahler and Carolina Trust Buildings, 228-232 Fayetteville St. Mall, Raleigh, 00000457

OREGON

Jackson County

Big Elk Guard Station, (US Forest Service Historic Structures on the Rogue River National Forest MPS), FS Rd. 3706 approx. 5 mi. N. of Dead Indian Memorial Rd., Ashland, 00000462

Parker Meadows Shelter, (US Forest Service Historic Structures on the Rogue River National Forest MPS), Near Forest Rd. 37 approx. 15 mi. NE. of Butte Falls, Butte Falls, 00000466

Star Ranger Station Building, (US Forest Service Historic Structures on the Rogue River National Forest MPS), 6941 Upper Applegate Rd., Jacksonville, 00000460

Willow Prairie Cabin, (US Forest Service Historic Structures on the Rogue River National Forest MPS), FS Rd. 37 approx. 1.5 mi. N. of Butte Falls, Butte Falls, 00000469

TEXAS

Hardeman County

Quanah Commercial Historic District, Roughly bounded by Green, Second, Third, Fourth, Fifth, King, Elbert, and McClelland Sts., and Burlington Northern RR, Quanah, 00000475

VIRGINIA

Danville Independent city

Dan River Inc. Riverside Division Historic District, Both sides of Dan River roughly bounded by Union St. Dam, Main St. Bridge, and Riverside and Memorial Drs., Danville, 00000480

Fredericksburg Independent city

Braehead, 123 Lee Dr., Fredericksburg, 00000484

Giles County

Greater Newport Rural Historic District, Roughly bounded by US 460 and VA 42, 601, 603, 604, 605 and 700, Newport, 00000489

Henry County

Virginia House, 986 Field Ave., Fieldale, 00000495

Lynchburg Independent city

Rivermont, 205 F St., Lynchburg, 00000496

Mecklenburg County

Chase City High School, 132 Endly St., Chase City, 00000482

Radford Independent city

East Radford Historic District, Norwood, Stockton, and Downey Sts., and Grove Ave., Radford, 00000491

Richmond Independent city

Davis, Decatur O., House, 1001 E. Clay St., Richmond, 00000490

Smyth County

Bonham, H.L., House, 408 White Top Rd., Chilhowie, 00000485

Spotsylvania County

Bloomsbury Farm, 9736 Courthouse Rd., Spotsylvania Court House, 00000479

WISCONSIN

Door County

Zahn, Albert, House, 8223 WI Trunk Hwy. 57, Baileys Harbor, 00000492

Sheboygan County

Garton Toy Company, 746, 810, 830 N. Water St., 1104 Wisconsin Ave., Sheboygan, 00000493

A Request for Removal has been made for the following resources:

MINNESOTA

Goodhue County

Hall, Dr. Orrin I., House, 206 W. 3rd St., Zumbrota, 80002066

Kanabec County

Coin School, Cty Hwys 4 and 15, Brunswick, 80002086

WASHINGTON

Grays Harbor County

Finch Building, Heron and H Sts., Aberdeen, 83004230

[FR Doc. 00-10200 Filed 4-21-00; 8:45 am]

BILLING CODE 4310-70-P